DEPARTMENT OF TRANSPORTATION

Federal Transit Administration

Environmental Impact Statement for the Bi-County Transitway Project

AGENCY: Federal Transit Administration (FTA), U.S. Department of Transportation.

ACTION: Notice of Intent To Prepare an Environmental Impact Statement (EIS).

SUMMARY: The Federal Transit Administration (FTA) and the Maryland Transit Administration (MTA) intend to prepare an Environmental Impact Statement (EIS) in accordance to the National Environmental Policy Act (NEPA) of 1969, as amended, on the proposed Bi-County Transitway Project in Montgomery and Prince George's Counties, Maryland, which are in the metropolitan area of Washington, DC. The corridor extends 14 miles from the western branch of the Metrorail Red Line in Bethesda to the New Carrollton Metrorail Station. The Bi-County Transitway will provide high-capacity transit along the corridor. As a result of rapid growth in travel and development, the Bethesda to New Carrollton study area is facing numerous transportation challenges. The growing service sector job base has increased the vitally important need for efficient transit. The transit investment will compliment and support ongoing revitalization efforts currently underway in the study area.

This project includes the alignment previously known as the Georgetown Branch Transitway/Trail (Bethesda to Silver Spring). A notice of intent to prepare an EIS for the Georgetown Branch Transitway and Trail was published in the Federal Register on September 21, 1994. Subsequently, the Georgetown Branch became known as the “Western” segment of the Purple Line. The current Bi-County Transitway Project now also includes what was known as the Purple Line “East”, which extended from Silver Spring to New Carrollton. The Bi-County Transitway study area is now defined as all of the earlier Purple Line project area between Bethesda and New Carrollton.

The EIS will address the need to improve transit access, reduce travel times and improve connectivity in response to regional growth, traffic congestion, and land use plans for the area. The EIS will examine potential impacts and benefits to the social, cultural, economic, built and natural environment. The EIS will develop and evaluate alternatives that are cost efficient and beneficial. Improvements that enhance connections to existing transit systems, increase access to transit and to economic development areas, and minimize adverse impacts will be identified. The EIS will evaluate the No-Build Alternative, Transportation Systems Management (TSM) Alternative, Build Alternatives for Bus-Rapid Transit (BRT) and Light Rail Transit (LRT), and any additional alternatives generated by the scoping process. In addition to mode, the Build Alternative will consider alignments, grade options, station locations, and facilities such as maintenance and storage yard, inspection and Operation Control Center (OCC), traction power substations and tiebreaker stations.

Scoping Meetings: Public scoping for the Bi-County Transitway EIS will be held on: September 16 at the Holiday Inn-Silver Spring, 8777 Georgia Avenue, Silver Spring, Maryland 20910; September 17 at the Bethesda-Chevy Chase High School, 4301 East West Highway, Bethesda, Maryland 20615; and September 24 at College Park City Hall, 4500 Knox Road, College Park, Maryland 20740. All scoping meetings will be from 4 p.m. to 8 p.m., and will be carried out in an open house format.

Details on meetings dates, project updates, times and locations will be announced on the project Web site www.Bi-CountyTransitway.com and in a project newsletter. Comments and input may be provided at the scoping meetings. Information will be available in English and in Spanish and will be published in the following newspapers: The Washington Post, The Gazette, The Washington City Paper, The Washington Hispanic, The Washington Times, The Takoma Voice, and The Washington Afro-American Newspaper.

ADDRESSES: Written comments on the project scope should be sent by October 31, 2003 to Michael D. Madden, Project Manager, Bi-County Transitway, Maryland Transit Administration, Office of Planning, 9th Floor, 6 St. Paul Street, Baltimore, Maryland 21202. For more information about this project or special assistance needs for the scoping meetings, please contact Michael D. Madden at (410) 767-3694.

FOR FURTHER INFORMATION CONTACT: Gail McFadden-Roberts, AICP, Community Planner, Federal Transit Administration, Region III, Office of Planning and Program Development, 1760 Market Street, Philadelphia, Pennsylvania 19103-4124, (215) 656-7100 (voice).

SUPPLEMENTARY INFORMATION:

I. Scoping

The FTA and MTA invite all interested individuals and organizations, and Federal, State, regional, and local agencies to provide comments on the scope of the project. The goals of the Bi-County Transitway are to: Provide improved suburb to suburb transit alternatives and enhanced access to key civic, educational and employment activity centers; improve system connectivity and increase transit usage by providing an essential link to the Metrorail radial lines, as well as to other rail or bus services in Montgomery and Prince George's County; optimize public investment by providing, at a reasonable cost, efficient, safe, and reliable transit service, while minimizing environmental impacts; improve regional mobility by increasing the speed, reliability, and access to transit services in Montgomery and Prince George's Counties; support economic development and revitalization through improved connections to central business districts and activity centers; and support regional clean air quality goals with a cost effective transit alternative. Comments should focus on the alternatives for analysis and environmental issues, rather than on a preference for a particular alternative.

Public meetings and hearings, newsletters, project Web site and other outreach methods and forums will be used to inform the public of the progress of the project and to solicit input from the community on the proposed project as it develops. Outreach activities will include meetings with local officials, community leaders, local stakeholders, and the general public throughout the area. Public attendance at meetings will be sought through mailings, notices, advertisements, press releases and other efforts.

Additional agency coordination will be carried out through the Project Team, which will meet throughout the study process to address key issues. Members of the Project Team will include representatives of Montgomery County, Prince George's County, Washington Metropolitan Area Transit Authority, Maryland-National Capital Park and Planning Commission, and the State Highway Administration.

II. Description of Corridor and Transportation Needs

The project is located in Montgomery and Prince George's Counties, north of Washington, DC. The project area includes established communities characterized by medium-density residential uses, with pockets of high-density development (Bethesda, Silver Spring, Langley Park/Takoma Park, College Park, and New Carrollton), and the University of Maryland. The earliest development in the area corresponded with the construction of electric railways that radiated from the District of Columbia and facilitated movement into outlying areas. The primary roadways centered on downtown Washington, DC, and mainly traversed the corridor north to south. These arterials include Wisconsin Avenue (MD 355), Connecticut Avenue (MD 185), Georgia Avenue (MD 97), New Hampshire Avenue (MD 650), and Baltimore Avenue (US 1). The area has limited infrastructure for east-west travel, with two primary routes consisting of East-West Highway (MD 410) and University Boulevard (MD 193).

This portion of the Metropolitan Washington Region experienced rapid suburban development following World War II, and now contains mature neighborhoods accompanied by the development of supportive commercial activity centers along the primary roadways with the majority of housing stock constructed prior to 1960. Many of the commercial activity centers have access, parking, and pedestrian circulation deficiencies. The service employment sector is very strong throughout the corridor. In addition, professional and office employment are located in clusters near Metro stations in Bethesda, Silver Spring and, to a lesser extent, College Park and New Carrollton.

Numerous communities along the corridor contain populations that rely on transit to reach employment and activity centers. New transit services in the corridor have been limited to bus service, which is subject to roadway congestion. To date, there has been no investment in fixed guideway systems or in new highways to facilitate commuting and links between the development centers along radial transportation routes that cross the corridor. The current east-west connections include bus transit and to a lesser degree, roadways. Commuters must use a north and south means to travel east-west. The area has limited infrastructure for east-west travel, with two primary routes consisting of East-West Highway (MD 410) and University Boulevard (MD 193), neither of which provides a direct connection between Silver Spring and New Carrollton. These routes are heavily congested during peak periods and increasingly unable to accommodate the traffic demands. The focus of the EIS will be to identify a preferred transit alternative that will reduce travel time, provide an alternative to traveling on congested roadways, and improve transit access to central business districts within the area while examining the socioeconomic, cultural and natural environmental considerations on a local and regional basis.

III. Alternatives

The alternatives proposed for evaluation include:

• A no-build alternative, which includes the current network plus all ongoing, programmed, and committed projects listed in the latest Transportation Improvement Program;

• A TSM alternative, which would include improving existing transit services such as additional bus service and routes, and which also serves as a baseline for evaluation against which all other alternatives may be compared for federal funding purposes (referred to as the FTA Future Baseline);

• Bus Rapid Transit alternatives; and

• Light rail alternatives.

Each build alternative will explore the construction of new transportation infrastructure, such as tracks, stations, and maintenance yards. Underground, surface and/or aerial design options may be developed for each of the build alternative alignments. Multi-modal alternatives will also be explored.

IV. Probable Effects

The FTA and MTA will evaluate all potential changes to the social, cultural, economic, built and natural environment, including land acquisition and displacements; land use, zoning, economic development; parklands; community disruption; aesthetics; historical and archaeological resources; traffic and parking; air quality; noise and vibration; water quality; wetlands; environmentally sensitive areas; endangered species; energy requirements and potential for conservation; hazardous waste; environmental justice; safety and security; and secondary and cumulative impacts. Key areas of environmental concern include areas of potential new construction (e.g., structures, new transit stations, new track, etc.). Impacts will be evaluated for both the short-term construction period and for the long-term period of operation associated with each alternative. Measures to avoid, minimize and mitigate any significant adverse impacts will be identified.

V. Federal Transit Administration (FTA) Procedures

Previously, a Notice of Intent (NOI) was published in the Federal Register on September 21, 1994, which announced the preparation of an Environmental Impact Statement for the Georgetown Branch Transitway/Trail in Montgomery County, Maryland. The subsequent Draft Environment Impact Statement (DEIS) was completed in May 1996, and evaluated transportation improvements between the central business districts (CBDs) in Bethesda and Silver Spring, Maryland. The DEIS evaluated both a busway and light rail transit alternative in conjunction with a parallel hiker/biker trail. A Final Environmental Impact Statement was never produced for this study.

This NOI for the Bi-County Transitway Project extends the previous projects limits beyond Silver Spring to New Carrollton. An EIS will be prepared in accordance with section 102(2)(C) of the National Environmental Policy Act (NEPA) of 1969 (as amended), as implemented by the Council of Environmental Quality (CEQ) regulations (40 CFR parts 1500-1508), Federal Transit Administration (FTA) regulations (23 CFR part 771), and the FTA Statewide Planning/Metropolitan Planning regulations (23 CFR part 450). These studies will comply with the requirements of the National Historical Preservation Act of 1966, as amended, section 4(f) of the 1966 U.S. Department of Transportation Act, the 1990 Clean Air Act Amendments, Executive Order 12898 on Environmental Justice, and other applicable rules, regulations, and guidance documents.

In addition, MTA intends to seek Section 5309 New Starts funding for the project. As provided in the FTA New Starts regulation (49 CFR part 611), New Starts funding requires the submission of certain specific information to FTA to support a request to initiate preliminary engineering, which is normally done in conjunction with the NEPA process.

Upon completion, the Draft EIS will be available for public and agency review and comment. Public hearings will be held. Based on the findings of the Draft EIS and the public and agency comments received, a preferred alternative will be selected that will be further detailed in the Final EIS.

Issued on: August 27, 2003.
Herman C. Shipman,
Acting Regional Administrator, Region III, Federal Transit Administration.

[FR Doc. 03-22371 Filed 9-2-03; 8:45 am]

BILLING CODE 4910-57-P